DEPARTMENT OF COMMERCE

National Oceanic and Atmospheric Administration

50 CFR Part 622

[Docket No. 120919470-3513-02]

RIN 0648-XG231

Fisheries of the Caribbean, Gulf of Mexico, and South Atlantic; Shrimp Fishery Off the Southern Atlantic States; Reopening of the Penaeid Shrimp Fishery Off Georgia

AGENCY: National Marine Fisheries Service (NMFS), National Oceanic and Atmospheric Administration (NOAA), Commerce.

ACTION: Temporary rule; reopening.

SUMMARY: NMFS reopens the exclusive economic zone (EEZ) off Georgia in the South Atlantic to trawling for penaeid shrimp, i.e., for brown, pink, and white shrimp. NMFS previously closed penaeid shrimp trawling in the EEZ off Georgia on January 24, 2018. The reopening is intended to maximize harvest benefits while protecting the penaeid shrimp resource.

DATES: The reopening is effective at 12:01 a.m., local time, May 18, 2018, until the effective date of a notification of a closure which will be published in the Federal Register.

FOR FURTHER INFORMATION CONTACT: Frank Helies, 727-824-5305; email: Frank.Helies@noaa.gov.

SUPPLEMENTARY INFORMATION: Penaeid shrimp in the South Atlantic are managed under the Fishery Management Plan for the Shrimp Fishery of the South Atlantic Region (FMP). The FMP was prepared by the South Atlantic Fishery Management Council (Council) and is implemented under the authority of the Magnuson-Stevens Fishery Conservation and Management Act (Magnuson-Stevens Act) by regulations at 50 CFR part 622.

Under 50 CFR 622.206(a), NMFS may close the EEZ adjacent to South Atlantic states that have closed their waters to the harvest of brown, pink, and white shrimp to protect the white shrimp spawning stock that has been severely depleted by cold weather or when applicable state water temperatures are 9 °C (48 °F), or less, for at least 7 consecutive days. Consistent with those procedures and criteria, after determining that unusually cold temperatures resulted in water temperatures of 9 °C (48 °F), or less, for at least 7 consecutive days in its state waters, the state of Georgia closed its waters on January 15, 2018, to the harvest of brown, pink, and white shrimp. Georgia subsequently requested that NMFS implement a concurrent closure of the EEZ off Georgia.

NMFS determined that Georgia's request for an EEZ closure conformed with the procedures and criteria specified in the FMP and the Magnuson-Stevens Act, and, therefore, implemented the concurrent EEZ closure effective as of January 24, 2018 (83 FR 3404, January 25, 2018).

During the closure, as specified in 50 CFR 622.206(a)(2), no person could: (1) Trawl for brown, pink, or white shrimp in the EEZ off Georgia; (2) possess on board a fishing vessel brown, pink, or white shrimp in or from the EEZ off Georgia unless the vessel is in transit through the area and all nets with a mesh size of less than 4 inches (10.2 cm) are stowed below deck; or (3) for a vessel trawling within 25 nautical miles of the baseline from which the territorial sea is measured, use or have on board a trawl net with a mesh size less than 4 inches (10.2 cm), as measured between the centers of opposite knots when pulled taut.

The FMP and implementing regulations at 50 CFR 622.206(a) state that: (1) The closure will be effective until the ending date of the closure in the state waters, but may be ended earlier based on the state's request; and (2) if the closure is ended through a state's request, NMFS will terminate the closure of the EEZ by filing a notification to that effect with the Office of the Federal Register. On May 16, 2018, the state of Georgia requested the EEZ be reopened as soon as possible, based on their biological sampling. The state of Georgia is continuing its monitoring of both water conditions and the penaeid shrimp population in state waters but has not yet determined when the state waters reopening will occur. Therefore, NMFS publishes this notification to reopen the EEZ off Georgia to the harvest of brown, pink, and white shrimp effective 12:01 a.m., local time, May 18, 2018.

Classification

This action responds to the best available information recently obtained from the fishery. The Assistant Administrator for Fisheries, NOAA, (AA), finds good cause to waive the requirement to provide prior notice and opportunity for public comment pursuant to the authority set forth at 5 U.S.C. 553(b)(B). Allowing prior notice and opportunity for public comment on the reopening is unnecessary because the rule establishing the reopening procedures has already been subject to notice and comment, and all that remains is to notify the public of the reopening date. Additionally, allowing for prior notice and opportunity for public comment for this reopening is contrary to the public interest because it requires time, thus delaying the removal of a restriction and thereby reducing socio-economic benefits to the shrimp fishery. Also, the FMP procedures and implementing regulations require the penaeid shrimp trawling component based on the state's request, which Georgia requested to be as soon as possible.

For the aforementioned reasons, the AA also finds good cause to waive the 30-day delay in effectiveness of this action under 5 U.S.C. 553(d)(3).

This action is authorized by 50 CFR 622.206(a) and is exempt from review under Executive Order 12866.

Authority: 16 U.S.C. 1801 et seq.

Dated: May 18, 2018.
Alan D. Risenhoover,
Director, Office of Sustainable Fisheries, National Marine Fisheries Service.

[FR Doc. 2018-11009 Filed 5-18-18; 4:15 pm]

BILLING CODE 3510-22-P